DEPARTMENT OF DEFENSE

GENERAL SERVICES ADMINISTRATION

NATIONAL AERONAUTICS AND SPACE ADMINISTRATION

48 CFR Chapter 1

[Docket No. FAR-2021-0051, Sequence No. 3]

Federal Acquisition Regulation; Federal Acquisition Circular 2021-06; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2021-06. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2021-06
Item | Subject | FAR Case | Analyst
I | Analysis for Equipment Acquisitions | 2019-001 | Jackson.
II | Application of Micro-purchase Threshold to Task and Delivery Orders | 2020-004 | Jackson.
III | Technical Amendments

ADDRESSES: The FAC, including the SECG, is available via the internet at https://www.regulations.gov.

SUPPLEMENTARY INFORMATION: Summaries for each FAR rule follow. For the actual revisions and/or amendments made by these FAR rules, refer to the specific item numbers and subjects set forth in the documents following these item summaries. FAC 2021-06 amends the FAR as follows:

Item I—Analysis for Equipment Acquisitions (FAR Case 2019-001)

This final rule amends the FAR to implement section 555 of the FAA Reauthorization Act of 2018 (Pub. L. 115-254). Section 555 requires an agency to acquire equipment using the method of acquisition that is most advantageous to the Government based on a case-by-case analysis. The methods of acquisition to be considered include purchase, short-term rental or lease, long-term rental or lease, interagency acquisition, and agency acquisition agreements, if applicable, with a state or local government. The case-by-case analysis is of comparative costs and other factors, to include the factors in FAR section 7.401.

Item II—Application of Micro-purchase Threshold to Task and Delivery Orders (FAR Case 2020-004)

This final rule amends the FAR to implement section 826 of the National Defense Authorization Act (NDAA) for Fiscal Year (FY) 2020 (Pub. L. 116-92), which increases the threshold for requiring fair opportunity on orders under multiple-award contracts from $2,500 to the “micro-purchase threshold”. The threshold at FAR 16.505 is currently $3,500, as a result of inflation adjustments in accordance with FAR 1.109. The micro-purchase threshold is currently $10,000. This change applies the word-based threshold to ensure continued alignment with any future changes to the thresholds. This final rule will not have a significant economic impact on a substantial number of small entities.

Item III—Technical Amendments

Editorial changes are made at FAR 11.201, 19.102, 19.201, 19.702, 19.812, 22.805, 26.201, 42.203, 52.211-2, 52.212-1, 52.212-5, 52.213-4, 52.222-8, 52.244-6, and 53.236-2.

William F. Clark,

Director,

Office of Government-wide Acquisition Policy,

Office of Acquisition Policy,

Office of Government-wide Policy.

Federal Acquisition Circular (FAC) 2021-06 is issued under the authority of the Secretary of Defense, the Administrator of General Services, and the Administrator of National Aeronautics and Space Administration.

Unless otherwise specified, all Federal Acquisition Regulation (FAR) and other directive material contained in FAC 2021-06 is effective June 10, 2021 except for Items I through III, which are effective July 12, 2021.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, National Aeronautics and Space Administration.

[FR Doc. 2021-11865 Filed 6-9-21; 8:45 am]

BILLING CODE 6820-EP-P